INTERNATIONAL TRADE COMMISSION

[Investigation No. 337-TA-1210]

Certain Wrapping Material and Methods for Use in Agricultural Applications Notice of Commission Determination To Grant a Joint Motion To Terminate the Investigation on the Basis of a Settlement Agreement and Motion To Stay the Deadlines; Termination of the Investigation

AGENCY: U.S. International Trade Commission.

ACTION: Notice.

SUMMARY: Notice is hereby given that the U.S. International Trade Commission (“Commission”) has determined to grant a joint motion to terminate this investigation based on a settlement agreement and a motion to stay the deadlines in this investigation.

FOR FURTHER INFORMATION CONTACT: Ronald A. Traud, Esq., Office of the General Counsel, U.S. International Trade Commission, 500 E Street SW, Washington, DC 20436, telephone (202) 205-3427. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On August 11, 2020, the Commission instituted this investigation based on a complaint filed on behalf of Tama Group of Israel and Tama USA Inc. of Dubuque, Iowa (together, “Tama”). 85 FR 48561-62 (Aug. 11, 2020). The complaint alleged violations of section 337 of the Tariff Act of 1930, as amended, 19 U.S.C. 1337, based upon the importation into the United States, the sale for importation, and the sale within the United States after importation of certain wrapping material and methods for use in agricultural applications by reason of infringement of one or more of claims 1, 2, 4-16, 18, 28, 32, 33, and 35-45 of U.S. Patent No. 6,787,209 (“the '209 patent”). Id. The Commission's notice of investigation named as respondents Zhejiang Yajia Cotton Picker Parts Co., Ltd. of Zhuji City, China (“Yajia Cotton”); Southern Marketing Affiliates, Inc. of Jonesboro, Arkansas (“SMA”); Hai'an Xin Fu Yuan of Agricultural, Science, and Technology Co., Ltd. of Nantong, China (“XFY”); and Gosun Business Development Co. Ltd. of Grande Prairie, Canada (“Gosun”). Id. at 48561. The Office of Unfair Import Investigations is not participating in this investigation. Id.

The Commission previously terminated this investigation with respect to Gosun. Order No. 6, unreviewed by Notice (Oct. 5, 2020).

Based on Tama's motion, the Commission later amended the complaint and notice of investigation to add Zhejiang Yajia Packaging Materials Co., Ltd. (“Yajia Packaging”) as a respondent. Order No. 8, unreviewed by Notice (Oct. 27, 2020); 85 FR 68,916 (Oct. 30, 2020). Yajia Cotton and Yajia Packaging are collectively referred to herein as “Yajia.” Yajia, SMA, and XFY are collectively referred to herein as “Respondents.”

On November 16, 2020, XFY was found in default pursuant to Commission Rule 210.16 (19 CFR 210.16). Order No. 11, unreviewed by Notice (Nov. 30, 2020).

On December 10, 2021, the ALJ issued the final ID, which found that Respondents did not violate section 337.

On December 27, 2021, Yajia and SMA filed a joint petition for review, and Tama also filed a petition for review. On January 4, 2022, Yajia and SMA filed a joint response to Tama's petition for review, and Tama filed a response to Yajia and SMA's joint petition for review.

The Commission received no public interest comments from the public in response to the Commission's Federal Register notice seeking comment on the public interest. 86 FR 71664-65 (Dec. 17, 2021). Tama, Yajia, and SMA did not submit any public interest comments pursuant to Commission Rule 210.50(a)(4) (19 CFR 210.50(a)(4)).

On, March 9, 2022, the Commission determined to review the following findings and conclusions of the final ID:

(1) The final ID's findings that Yajia and SMA do not infringe claims 32, 33, 35-38, and 41-44 directly or indirectly; and

(2) the final ID's finding that the economic prong of the domestic industry requirement has not been satisfied.

On March 17, 2022, Tama and Respondents filed a joint motion to terminate the investigation based on a settlement agreement and a motion to stay the deadlines (the “Motion”). The Motion includes the settlement agreement.

The Commission has determined that the Motion complies with the requirements of section 210.21(b)(1) of the Commission's Rules of Practice and Procedure (19 CFR 210.21(b)(1)), and that there are no extraordinary circumstances that would prevent the requested termination. The Commission also finds that granting the Motion would not be contrary to the public interest pursuant to section 210.50(b)(2) of the Commission's Rules of Practice and Procedure (19 CFR 210.50(b)(2)). Accordingly, the Commission hereby grants the Motion. The Commission takes no position as to the issues that remain under review.

This investigation is terminated.

The Commission vote for this determination took place on March 28, 2022.

The authority for the Commission's determination is contained in section 337 of the Tariff Act of 1930, as amended (19 U.S.C. 1337), and in Part 210 of the Commission's Rules of Practice and Procedure (19 CFR part 210).

While temporary remote operating procedures are in place in response to COVID-19, the Office of the Secretary is not able to serve parties that have not retained counsel or otherwise provided a point of contact for electronic service. Accordingly, pursuant to Commission Rules 201.16(a) and 210.7(a)(1) (19 CFR 201.16(a), 210.7(a)(1)), the Commission orders that the Complainant(s) complete service for any party/parties without a method of electronic service noted on the attached Certificate of Service and shall file proof of service on the Electronic Document Information System (EDIS).]

By order of the Commission.
Issued: March 28, 2022.
William Bishop,
Supervisory Hearings and Information Officer.

[FR Doc. 2022-06868 Filed 3-31-22; 8:45 am]

BILLING CODE 7020-02-P